DEPARTMENT OF TRANSPORTATION

Federal Aviation Administration

14 CFR Part 39

[Docket No. 2003-NE-42-AD; Amendment 39-13349; AD 2003-22-02]

RIN 2120-AA64

Airworthiness Directives; Rolls-Royce plc Trent 556-61 Turbofan Engines

AGENCY: Federal Aviation Administration (FAA), DOT.

ACTION: Final rule; request for comments.

SUMMARY: The FAA is adopting a new airworthiness directive (AD) for certain Rolls-Royce (RR) plc RB211 Trent 556-61 turbofan engines. This AD requires a gauge inspection of the space between the high pressure (HP) fuel tubes adaptor face and seals, and a gauge inspection of the space between the fuel flow transmitter and seals, for evidence of permanent distortion of the face of the fuel tube connecting flanges, and replacement of parts if necessary. This AD is prompted by a report of fuel leaking from the engine fan cowl during an aircraft taxi. We are issuing this AD to prevent in-flight fuel leaks, which could result in an engine fire.

DATES: Effective November 14, 2003. The Director of the Federal Register approved the incorporation by reference of certain publications listed in the regulations as of November 14, 2003.

We must receive any comments on this AD by December 29, 2003.

ADDRESSES: Use one of the following addresses to submit comments on this AD:

• By mail: The Federal Aviation Administration (FAA), New England Region, Office of the Regional Counsel, Attention: Rules Docket No. 2003-NE-42-AD, 12 New England Executive Park, Burlington, MA 01803-5299.

• By fax: (781) 238-7055.

• By e-mail: 9-ane-adcomment@faa.gov.

You can get the service information referenced in this AD from Rolls-Royce plc, P.O. Box 31, Derby, England, DE248BJ; telephone: 011-44-1332-242424; fax: 011-44-1332-249936.

You may examine the AD docket, by appointment, at the FAA, New England Region, Office of the Regional Counsel, 12 New England Executive Park, Burlington, MA. You may examine the service information, by appointment, at the FAA, New England Region, Office of the Regional Counsel, 12 New England Executive Park, Burlington, MA; or at the Office of the Federal Register, 800 North Capitol Street, NW., suite 700, Washington, DC.

FOR FURTHER INFORMATION CONTACT: James Lawrence, Aerospace Engineer, Engine Certification Office, FAA, Engine and Propeller Directorate, 12 New England Executive Park; telephone (781) 238-7176; fax (781) 238-7199.

SUPPLEMENTARY INFORMATION: The Civil Aviation Authority, (CAA), which is the airworthiness authority for the United Kingdom (U.K.), recently notified the FAA that an unsafe condition may exist on all RR plc RB211 Trent 556-61 engines with serial numbers (SNs) before 71125, except for those SNs that are listed in Table 1 of this AD. The CAA advises that fuel was observed running from the engine fan cowl doors during an aircraft taxi. Further investigation revealed the source of the fuel leak to be permanent distortion of the face of the fuel tube connecting flanges at the fuel flow meter resulting in a significant fuel leak, which could result in an engine fire. The CAA also advises that the distortion of the flange is not aggravated by service use, but by exposure to fuel pressures that extrudes the seal through the gap between the flanges.

Relevant Service Information

We have reviewed and approved the technical contents of RR plc Alert Service Bulletin (ASB) RB.211-73-AE200, dated July 11, 2003, that describes procedures for the following:

• Gauge inspection of the space between the HP fuel tubes adaptor face and the seals, and replacement of the seal gasket and tube, if necessary; and

• Gauge inspection of the space between the fuel flow transmitter and the seals, and replacement of the seal gasket and tube, if necessary.

The CAA classified this service bulletin as alert and issued AD G-2003-0001, dated July 15, 2003, in order to ensure the airworthiness of these RR plc engines in the U.K.

Bilateral Airworthiness Agreement

This engine model is manufactured in the U.K. and is type certificated for operation in the United States under the provisions of section 21.29 of the Federal Aviation Regulations (14 CFR 21.29) and the applicable bilateral airworthiness agreement. Under this bilateral airworthiness agreement, the CAA has kept the FAA informed of the situation described above. We have examined the findings of the CAA, reviewed all available information, and determined that AD action is necessary for products of this type design that are certificated for operation in the United States.

FAA's Determination and Requirements of This AD

Although no airplanes that are registered in the United States use these engines, the possibility exists that the engines could be used on airplanes that are registered in the United States in the future. The unsafe condition described previously is likely to exist or develop on other RR plc Trent 556-61 engines of the same type design. We are issuing this AD to prevent in-flight fuel leaks, which could result in an engine fire. You must use the service information described previously to perform the actions required by this AD.

FAA's Determination of the Effective Date

Since there are currently no domestic operators of this engine model, notice and opportunity for public comment before issuing this AD are unnecessary. Therefore, a situation exists that allows the immediate adoption of this regulation.

Changes to 14 CFR Part 39—Effect on the AD

On July 10, 2002, we issued a new version of 14 CFR part 39 (67 FR 47997, July 22, 2002), which governs our AD system. This regulation now includes material that relates to special flight permits, alternative methods of compliance, and altered products. This material previously was included in each individual AD. Since this material is included in 14 CFR part 39, we will not include it in future AD actions.

Comments Invited

This AD is a final rule that involves requirements affecting flight safety and was not preceded by notice and an opportunity for public comment; however, we invite you to submit any written relevant data, views, or arguments regarding this AD. Send your comments to an address listed under ADDRESSES. Include “AD Docket No. 2003-NE-42-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-42-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2003-22-02 Rolls-Royce plc: Amendment 39-13349. Docket No. 2003-NE-42-AD.

Effective Date

(a) This airworthiness directive (AD) becomes effective November 14, 2003.

Affected ADs

(b) None.

Applicability

(c) This AD applies to all Rolls-Royce plc (RR) RB211 Trent 556-61 engines with serial numbers (SNs) before 71125, except for those SNs that are listed in the following Table 1 of this AD.

Table 1.—Engine SNs Not Affected by This AD
71001 | 71003 | 71006 | 71012 | 71013
71015 | 71016 | 71017 | 71020 | 71021
71022 | 71023 | 71032 | 71037 | 71053
71060 | 71064 | 71068 | 71069 | 71070
71072 | 71073 | 71074 | 71076 | 71077
71078 | 71079 | 71080 | 71083 | 71084
71085 | 71086 | 71087 | 71088 | 71089
71090 | 71091 | 71092 | 71093 | 71094
71095 | 70196 | 71097 | 71098 | 71099
71100 | 71101 | 71102 | 71104 | 71105
71106 | 71107 | 71108 | 71109 | 71110
71111 | 71112 | 71113 | 71114 | 71115
71116 | 71117 | 71118 | 71120 | 71121
71122 | 71123 |  |  |

These engines are installed on, but not limited to, Airbus A340 airplanes.

Unsafe Condition

(d) This AD is prompted by a report of fuel leaking from the engine fan cowl during an aircraft taxi. We are issuing this AD to prevent in-flight fuel leaks, which could result in an engine fire.

Compliance

(e) You are responsible for having the actions required by this AD performed within the compliance times specified unless the actions have already been done.

Credit for Previous Compliance

(f) For engines that have incorporated RR Alert Service Bulletin (ASB) No. RB.211-73-AE200, dated July 11, 2003, no further action is required.

One-Time Gauge Inspections

(g) Before further flight, gauge inspect the space between the high pressure (HP) fuel tubes adaptor face and seals and the space between the fuel flow transmitter and the seals for evidence of permanent distortion of the face of the fuel tube connecting flanges, and replace parts if necessary. Use paragraphs 3.A. through 3.B. of the Accomplishment Instructions of RR ASB No. RB.211-73-AE200, dated July 11, 2003, to do the inspections and parts replacements.

Alternative Methods of Compliance

(h) The Manager, Engine Certification Office, has the authority to approve alternative methods of compliance for this AD if requested using the procedures found in 14 CFR 39.19.

Material Incorporated by Reference

(i) You must use Rolls-Royce plc ASB No. RB.211-73-AE200, dated July 11, 2003, to perform the actions required by this AD. The Director of the Federal Register approved the incorporation by reference of this service bulletin in accordance with 5 U.S.C. 552(a) and 1 CFR part 51. You can get a copy from Rolls-Royce plc, P.O. Box 31, Derby, England, DE24 8BJ; telephone: 011-44-1332-242424; fax: 011-44-1332-249936. You may review copies at the Federal Aviation Administration, New England Executive Park, or at the Office of the Federal Register, 800 North Capitol Street, NW., suite 700, Washington, DC.

Related Information

(j) CAA airworthiness directive G-2003-0001, dated July 15, 2003, also addresses the subject of this AD.

Issued in Burlington, Massachusetts, on October 20, 2003.
Jay J. Pardee,
Manager, Engine and Propeller Directorate, Aircraft Certification Service.

[FR Doc. 03-27152 Filed 10-29-03; 8:45 am]

BILLING CODE 4910-13-P